DEPARTMENT OF THE TREASURY

Submission for OMB Review; Comment Request

September 22, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11020, 1750 Pennsylvania Avenue, NW., Washington, DC 20220.

DATES: Written comments should be received on or before October 28, 2009 to be assured of consideration.

Office of Financial Stability (OFS)

OMB Number: 1505-0213.

Type of Review: Extension.

Title: Capital Assistance Program (CAP) Application.

Description: The Emergency Economic Stabilization Act provides the Secretary of the Treasury broad authority to purchase and insure mortgage assets, and to purchase any other financial instrument that the Secretary, in consultation with the Federal Reserve Chairman, determines necessary to stabilize our financial markets. The TARP includes several components including the Capital Assistance Program (CAP) under which the Department may purchase qualifying capital in U.S. banking organizations. The Treasury, through Federal banking agencies, is seeking applicant information for financial institutions that seek participation in the CAP. Treasury is seeking information from financial institutions include bank holding companies, financial holding companies, insured depository institutions and savings and loan holding companies that engage solely or predominately in activities that are permissible for financial holding companies under relevant law. To qualify, the applicant must be established and operating in the United States and may not be controlled by a foreign bank or company.

Respondents: Businesses or other for-profit institutions.

Estimated Total Reporting Burden: 200 hours.

OMB Number: 1505-0214.

Type of Review: Extension.

Title: Troubled Assets Relief Program (TARP) Capital Purchase Program (CPP) All Participants Monthly Report.

Description: Authorized under the Emergency Economic Stabilization Act (EESA) of 2008 (Pub. L. 110-343), the Department of the Treasury has implemented several aspects of the Troubled Asset Relief Program. Among these components is a voluntary Capital Purchase Program (CPP) under which the Department may purchase qualifying capital in U.S. banking organizations. The Treasury has so far invested capital through this program in over 400 financial institutions. As part of this program, Treasury would like to gauge, whether the capital injections made through the CPP are having the desired effect of ensuring liquidity within the banking system and thereby increasing lending activity. To gauge this, Treasury would like to monitor the lending activity of all CPP participants. The Treasury will be conducting evaluations using quarterly Call Report data supplied by these financial institutions to their primary regulator. However, in order to have a more frequent and timely snapshot of the current lending environment, Treasury is requesting the ability to conduct a monthly survey of all participants in the CPP in order to supplement the quarterly analysis.

Respondents: Businesses or other for-profit institutions.

Estimated Total Reporting Burden: 48,000 hours.

OMB Number: 1505-0215.

Type of Review: Extension.

Title: Legacy Systems Public-Private Investment Fund Application.

Description: Authorized under the Emergency Economic Stabilization Act (EESA) of 2008 (Pub. L. 110-343), the Department of the Treasury is implementing several aspects of the Troubled Asset Relief Program. The statute provides the Secretary broad authority to purchase and insure mortgage assets, and to purchase any other financial instrument that the Secretary, in consultation with the Federal Reserve Chairman, determines necessary to stabilize our financial markets. The TARP includes several components including a voluntary Legacy Securities Public Private Investment Fund (PPIF). Under this plan the Treasury will contribute equity funding equal to or less than the private capital raised by private investors. In addition Treasury will consider requests for loans from Treasury in amounts of up to 100% of the total equity capital (Treasury plus private) of a Legacy Security PPIF. The Treasury is seeking applicant information for financial institutions that seek participation in the Legacy Securities PPIF.

Respondents: Businesses or other for-profit institutions.

Estimated Total Reporting Burden: 1,200 hours.

Clearance Officer: Suzanne Tosini, (202) 927-9627, 1801 L Street NW, Washington, DC 20220.

OMB Reviewer: OIRA Desk Officer, Office of Management and Budget, Room 10235, New Executive Office Building, Washington, DC 20503. oira_submission@omb.eop.gov.

Robert Dahl,
Treasury PRA Clearance Officer.

[FR Doc. E9-23271 Filed 9-25-09; 8:45 am]

BILLING CODE 4810-25-P